DEPARTMENT OF AGRICULTURE

USDA Equity Commission

AGENCY: Agriculture (USDA).

ACTION: Notice of virtual meeting.

SUMMARY: Notice is hereby given, pursuant to the provisions of the rules and regulations of the United States Department of Agriculture (USDA) and the Federal Advisory Committee Act (FACA), that the inaugural meeting of the USDA Equity Commission (EC or Commission) and Subcommittee for Agriculture will convene to begin its work reviewing USDA programs, services and policies for the purpose of making recommendations for how the Department can improve access and advance equity.

DATES: The EC meeting will be open to the public and held virtually via Zoom on Monday, February 28, 2022, from 11:30 a.m. to 3:30 p.m. EST.

ADDRESSES: The webinar for the meeting and public comment period can be accessed by internet and/or phone. Access information will be provided to registered individuals via email. Detailed information can be found at: https://www.usda.gov/equity-commission.

FOR FURTHER INFORMATION CONTACT: Cecilia Hernandez, Designated Federal Officer, USDA Equity Commission, Office of the Secretary, 1400 Independence Avenue SW, Room 6006-S, Washington, DC 20250-0235; Phone: (202) 913-5907; Email: Equitycommission@usda.gov.

Individuals who use telecommunication devices for the deaf (TDD) may call the Federal Information Relay Service (FIRS) at 1-800-877-8339 between 8:00 a.m. and 8:00 p.m., Eastern Standard Time, Monday through Friday.

SUPPLEMENTARY INFORMATION: On January 20, 2021, President Biden signed an Executive Order On Advancing Racial Equity and Support for Underserved Communities Through the Federal Government and committed to creating the USDA Equity Commission as part of his rural agenda and commitment to closing the racial wealth gap and addressing longstanding inequities in agriculture. Section 1006 of the American Rescue Plan directed USDA to create the Equity Commission and provided funds sufficient to ensure the Commission is well staffed and positioned to deliver on its charge.

The USDA Equity Commission will advise the Secretary of Agriculture and provide USDA with an analysis of how its programs, policies, systems, structures, and practices contribute to barriers to inclusion or access, systemic discrimination, or exacerbate or perpetuate racial, economic, health and social disparities and recommendations for action. A Subcommittee on Agriculture is being formed concurrently and will report back to the Equity Commission and provide recommendations on issues of concern related to agriculture. Subsequent subcommittees will focus on other policy areas, such as rural community and economic development. The Equity Commission will deliver an interim report and provide actionable recommendations by September 2022. A final report will be completed by the summer of 2023.

Meeting Agenda: Agenda items may include, but are not limited to, welcome and introductions; administrative matters; overview of governance including roles and responsibilities; the purpose, scope, and priorities of the Equity Commission; and the overview and charge of the Agriculture Subcommittee. Please check the USDA Equity Commission website for an agenda 24-48 hours prior to February 28th at https://www.usda.gov/equity-commission.

Register for the Meeting: The public is asked to pre-register for the meeting by visiting https://www.usda.gov/equity-commission. Your pre-registration must state: Your name; organization or interest represented; if you are planning to give oral comments; and if you require special accommodations. USDA will also accept day-of registrations.

Oral Comments: The Commission is providing the public an opportunity to provide oral comments and will accommodate as many individuals and organizations as time permits. Persons or organizations wishing to make oral comments must pre-register by 11:59 p.m. ET, Monday, February 21, 2022, and may only register for one speaking slot. Participants who wish to make oral comments must also be available to attend a tech-check the day before the meeting. Instructions for registering and participating in the meeting can be found on https://www.usda.gov/equity-commission.

Written Comments: Written public comments for consideration at the meeting will be accepted on or before 11:59 p.m. Monday, February 21, 2022, EST. Comments submitted after this date will be provided to USDA, but the Commission may not have adequate time to consider those comments prior to the meeting. The USDA Equity Commission strongly prefers comments be submitted electronically. However, written comments may also be submitted (i.e., postmarked) via mail to the person listed in the FOR FURTHER INFORMATION CONTACT section by or before the deadline. Written comments will be accepted up to 15 days after the meeting.

Availability of Materials for the Meeting: All written public comments received by February 21, 2022, will be compiled into a file and available for member review and be included in the meeting minutes. Duplicate comments from multiple individuals will appear as one comment, with a notation that multiple copies of the comment were received. Please visit https://www.usda.gov/equity-commissiontoviewtheagendaand/or minutes from this meeting.

Meeting Accommodations: USDA is committed to making its electronic and information technologies accessible to individuals with disabilities by meeting or exceeding the requirements of Section 508 of the Rehabilitation Act (29 U.S.C. 794d), as amended. If you need reasonable accommodations, please make requests in advance for reasonable accommodations through the meeting registration link on https://www.usda.gov/equity-commission. Determinations for reasonable accommodations will be made on a case-by-case basis.

Dated: February 9, 2022.
Cikena Reid,
USDA Committee Management Officer.

[FR Doc. 2022-03074 Filed 2-11-22; 8:45 am]

BILLING CODE 3410-01-P